DEPARTMENT OF THE INTERIOR

National Indian Gaming Commission

25 CFR Chapter III

Regulatory Review Schedule

AGENCY: National Indian Gaming Commission.

ACTION: Notice of additional regulatory groups to be discussed at tribal consultations.

SUMMARY: On November 18, 2010, the National Indian Gaming Commission (NIGC) issued a Notice of Inquiry and Notice of Consultation advising the public that the NIGC was conducting a comprehensive review of all its regulations and requesting public comment on the process for conducting the regulatory review. On April 4, 2011, after holding eight consultation meetings and reviewing all comments, NIGC published a Notice of Regulatory Review Schedule setting out detailed consultation schedules and review processes. NIGC divided the regulations to be reviewed into five groups, and each group will be reviewed in three phases, the Drafting Phase, the Notice of Proposed Rulemaking phase, and the Notice of Final Rule Phase.

The purpose of this document is to add regulatory groups to five scheduled tribal consultations.

DATES: See SUPPLEMENTARY INFORMATION below for dates and locations of consultations that will include additional regulatory groups for discussion.

FOR FURTHER INFORMATION CONTACT: Lael Echo-Hawk, National Indian Gaming Commission, 1441 L Street, NW., Suite 9100, Washington, DC 20005. Telephone: 202-632-7003; e-mail: reg.review@nigc.gov.

SUPPLEMENTARY INFORMATION: On November 18, 2010, the National Indian Gaming Commission (NIGC) issued a Notice of Inquiry and Notice of Consultation advising the public that it was conducting a comprehensive review of all regulations promulgated to implement 25 U.S.C. 2701-2721 of the Indian Gaming Regulatory Act (IGRA) and requesting public comment on the process for conducting the regulatory review. On April 4, 2011, after holding eight consultation meetings and reviewing all comments, NIGC published a Notice of Regulatory Review Schedule in the Federal Register setting out detailed consultation schedules and review processes. (76 FR 18457, April 4, 2011).

The Commission's regulatory review process establishes a detailed tribal consultation schedule with a description of the regulation groups to be covered at each consultation. This document advises the public that the agendas of the following tribal consultations are amended to include review of all five regulatory groups.

Consultation date | Event | Location | Regulation group(s)
July 20-21, 2011 | NIGC Consultation—Southwest | Route 66 Casino Hotel, Albuquerque, NM | 1, 2, 3, 4, 5
July 28-29, 2011 | NIGC Consultation—Northeast | DOI South Auditorium, Washington, DC | 1, 2, 3, 4, 5
Aug. 18-19, 2011 | Oklahoma Indian Gaming Association Conference | Tulsa, OK | 1, 2, 3, 4, 5
Aug. 25-26, 2011 | NIGC Consultation—Southwest | Wild Horse Resort Casino, Scottsdale, AZ | 1, 2, 3, 4, 5
Sept. 7-8, 2011 | NIGC Consultation—United Tribes International Powwow | Radisson Hotel, Bismarck, ND | 1, 2, 3, 4, 5

For additional information on consultation locations and times, please refer to the Web site of the National Indian Gaming Commission, http://www.nigc.gov. Please RSVP at consultation.rsvp@nigc.gov.

Please note that the Commission intends to post all written comments received during the regulatory review process on the Tribal Consultation webpage of the NIGC Web site located at http://www.nigc.gov.

Authority: 25 U.S.C. 2706(b)(10); E.O. 13175.

Dated: June 3, 2011, Washington, DC.
Tracie L. Stevens,
Chairwoman.
Steffani A. Cochran,
Vice-Chairwoman.
Daniel J. Little,
Associate Commissioner.

[FR Doc. 2011-14100 Filed 6-7-11; 8:45 am]

BILLING CODE 7565-01-P